DEPARTMENT OF ENERGY

Federal Energy Regulatory Commission

[Docket No. EG02-171-000, et al.]

Genova Arkansas I, LLC, et al.; Electric Rate and Corporate Regulation Filings

July 30, 2002.

The following filings have been made with the Commission. The filings are listed in ascending order within each docket classification.

1. Genova Arkansas I, LLC

[Docket No. EG02-171-000]

Take notice that on July 25, 2002, Genova Arkansas I, LLC, 5700 West Plano Parkway, Suite 1000, Plano, Texas 75093, filed with the Federal Energy Regulatory Commission (Commission) an application for determination of exempt wholesale generator status pursuant to Part 365 of the Commission's regulations.

Genova Arkansas I, LLC is a limited liability company, organized under the laws of the State of Delaware, and states it is engaged directly and exclusively in owning and operating the Genova Arkansas I, LLC electric generating facility (the Project) to be located in Washington County, Arkansas, and selling electric energy at wholesale from the Project. The Project will consist of a combined cycle combustion turbine unit with a nominal rating of approximately 580 megawatts and associated transmission interconnection components.

Comment Date: August 20, 2002.

2. Ameren Services Company

[Docket No. ER02-1619-001]

Take notice that on July 25, 2002, Ameren Services Company (ASC) tendered for filing a Parallel Operating Agreement between ASC and Clay County Trust 2000. ASC asserts that the purpose of the Agreement is to replace Appendix B—Company Verification attached to the Agreement in Docket No. ER 02-1619-000 with an executed Appendix B—Company Verification.

Comment Date: August 15, 2002.

3. Carolina Power & Light Company and Florida Power Corporation

[Docket Nos. ER01-1807-010 and ER01-2020-007]

Take notice that on July 25, 2002, Progress Energy, Inc., on behalf of Florida Power Corporation (FPC) and Carolina Power & Light Company (CP&L), tendered for filing with the Federal Energy Regulatory Commission (Commission) a redesignated Service Agreement for Firm Point-To-Point Transmission Service (Firm PTP Service Agreement) between FPC and the City of Tallahassee and a redesignated, executed Service Agreement for Network Integration Transmission Service and Network Operating Agreement (collectively, Network Service Agreement) between FPC and Tampa Electric Company. Progress Energy is filing the agreements under both FPC's open-access transmission tariff, FERC Electric Tariff, Second Revised Volume No. 6 and CP&L's open-access transmission tariff, FERC Electric Tariff, Third Revised Volume No. 3, in compliance with the Commission's June 25, 2001, September 21, 2001 and November 26, 2001 orders in these proceedings.

Progress Energy respectfully requests waiver of the Commission's regulations to allow the Firm PTP Service Agreement to become effective December 1, 2000, and the Network Service Agreement to become effective June 18, 2002. Copies of the filing were served upon the City of Tallahassee, Tampa Electric Company, the Florida Public Service Commission and North Carolina Utilities Commission.

Comment Date: August 15, 2002.

4. Ameren Services Company

[Docket No. ER02-1936-003]

Take notice that on July 25, 2002, Ameren Services Company (ASC) tendered for filing a Network Integration Transmission Service Agreement and Network Operating Agreement between ASC and Edgar Electric Cooperative Association, d/b/a EnerStar Power Corp. ASC asserts that the purpose of the Agreement is to replace the unexecuted Agreements in Docket No. ER 02-1936-000 with the executed Agreements.

Comment Date: August 15, 2002.

5. Ameren Services Company

[Docket No. ER02-2176-001]

Take notice that on July 25, 2002, Ameren Services Company (ASC) tendered for filing a Network Integration Transmission Service Agreement and Network Operating Agreement between ASC and Edgar Electric Cooperative Association, d/b/a EnerStar Power Corp. ASC asserts that the purpose of the Agreement is to replace the unexecuted Agreements in Docket No. ER 02-2176-000 with the executed Agreements.

Comment Date: August 15, 2002.

6. Ameren Services Company

[Docket No. ER02-2236-001]

Take notice that on July 25, 2002, Ameren Services Company (ASC) tendered for filing a Firm Point-to-Point Transmission Service Agreement between ASC and American Electric Power Service Corp. ASC asserts that the purpose of the Agreement is to replace the unexecuted Agreement in Docket No. ER 02-2237-000 with the executed Agreement.

Comment Date: August 15, 2002.

7. Central Maine Power Company

[Docket No. ER02-2363-000]

Please take notice that on July 25, 2002, Central Maine Power Company (CMP) and Maine Electric Power Company (MEPCO) tendered for filing a Support Services Agreement for support services provided by CMP to MEPCO, and designated as Rate Schedule FERC No. 115, First Revised

Comment Date: August 15, 2002.

8. Florida Power & Light Company

[Docket No. ER02-2364-000]

Take notice that on July 25, 2002, Florida Power & Light Company (FPL) tendered for filing a Notice of Termination of an Interconnection and Operation Agreement (IOA) between FPL and CPV Atlantic, Ltd. (CPV Atlantic). Termination of the IOA has been mutually agreed to by FPL and CPV Atlantic.

Comment Date: August 15, 2002.

9. PJM Interconnection, L.L.C.

[Docket No. ER02-2365-000]

Take notice that on July 25, 2002 PJM Interconnection, L.L.C. (PJM), submitted for filing with the Federal Energy Regulatory Commission (Commission) an executed interconnection service agreement between PJM and Prince George's County, Maryland.

PJM requests a waiver of the Commission's 60-day notice requirement to permit a June 26, 2002 effective date as agreed to by the parties. Copies of this filing were served upon each of the parties to the agreements and the state regulatory commissions within the PJM region.

Comment Date: August 15, 2002.

10. Louis Dreyfus Energy LLC

[Docket No. ER02-2366-000]

Take notice that on July 25, 2002, Louis Dreyfus Energy LLC petitioned the Federal Energy Regulatory Commission (Commission) for acceptance of its Rate Schedule FERC No. 1, the granting of certain blanket approvals, including the authority to sell electricity at market-based rates, and the waiver of certain of the Commission's Regulations.

Comment Date: August 15, 2002.

11. Ameren Services Company

[Docket No. ER02-2367-000]

Take notice that on July 25, 2002, Ameren Services Company (ASC) tendered for filing a Network Integration Transmission Service Agreement and Network Operating Agreement between ASC and EnerStar Power Corporation, previously d/b/a Edgar Electric Cooperative Association. ASC asserts that the purpose of the Agreement is to replace the unexecuted Agreements in Docket No. ER02-1693-000 with the executed Agreements.

Comment Date: August 15, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-19916 Filed 8-6-02; 8:45 am]

BILLING CODE 6717-01-P